DEPARTMENT OF VETERANS AFFAIRS

38 CFR Part 19

RIN 2900-AK62

Appeals Regulations: Title for Members of the Board of Veterans' Appeals

AGENCY: Department of Veterans Affairs.

ACTION: Proposed rule.

SUMMARY: This document proposes to amend the Department of Veterans Affairs' (VA) Appeals Regulations to provide that a Member of the Board of Veterans' Appeals (Board) may also be known as a Veterans Law Judge. A companion document in the “Rules and Regulations” section of this issue of the Federal Register contains other actions regarding this matter.

DATES: Comments must be received on or before May 7, 2001.

ADDRESSES: Mail or hand-deliver written comments to: Director, Office of Regulations Management (02D), Department of Veterans Affairs, 810 Vermont Ave., NW., Room 1154, Washington, DC 20420; or fax comments to (202) 273-9289; or e-mail comments to OGCRegulations@mail.va.gov. Comments should indicate that they are submitted in response to “RIN 2900-AK62.” All comments received will be available for public inspection in the Office of Regulations Management, Room 1158, between the hours of 8:00 a.m. and 4:30 p.m., Monday through Friday (except holidays).

FOR FURTHER INFORMATION CONTACT: Steven L. Keller, Senior Deputy Vice Chairman (01C), Board of Veterans' Appeals, Department of Veterans Affairs, 810 Vermont Avenue, NW., Washington, DC 20420 (202-565-5978).

SUPPLEMENTARY INFORMATION: The Board is an administrative body that decides appeals from denials of claims for veterans' benefits, after an opportunity for a hearing. There are currently 59 Board “Members,” who decide 35,000 to 40,000 such appeals per year.

Board Members other than the Chairman are appointed by the Secretary of Veterans Affairs, with the approval of the President of the United States, 38 U.S.C. 7101A(a)(1), and must be licensed attorneys, 38 U.S.C. 7101A(a)(2). Board Members are compensated at rates equivalent to the rates payable to Administrative Law Judges. 38 U.S.C. 7101A(b).

In a document published in the Federal Register on September 14, 2000 (65 FR 55461), we amended VA's Appeals Regulations by providing that a Member of the Board may also be known as a Veterans Law Judge. Consistent with legal authority, we published the amendment without providing an opportunity for notice-and-comment. Six veterans service organizations in a letter to the Acting Secretary opposed the amendment and argued that they should have been provided an opportunity to comment before we made such a change. Under these circumstances, in a companion document in the “Rules and Regulations” section of this issue of the Federal Register we rescinded the amendment. However, in this document we are proposing to amend the regulations to again provide that a Member of the Board may also be known as a Veterans Law Judge.

This proposal to allow the use of the title Veterans Law Judge is based on the following analyses.

Throughout the Executive Branch, individuals who decide appeals at the administrative level after the opportunity for a hearing—as do Board Members—are known as “judges.” E.g., “Administrative Law Judges,” 5 U.S.C. 3105; “Administrative Appeals Judges” at the Benefits Review Board at the Department of Labor, 20 CFR 801.2; “Administrative Judges” at The Financial Assistance Appeals Board of the Department of Energy, 10 CFR 1024.3; “Administrative Judges” at the Equal Employment Opportunity Commission, 29 CFR 1614.109; “Administrative Judges” at the Personnel Appeals Board of the General Accounting Office, 4 CFR 28.3; “Administrative Judges” at the Merit Systems Protection Board, 5 CFR 1201.4; “Administrative Judges” at the National Aeronautics and Space Administration, 14 CFR 1259.404; and “Administrative Judges” at the Office of Hearings and Appeals, Small Business Administration, 13 CFR 134.101. See also “Administrative Appeals Judges” at the Office of Hearings and Appeals of the Social Security Administration, 20 CFR 416.924(g) (decide appeals from decisions of administrative law judges, but without the opportunity for a hearing); “Immigration Judges” at the Executive Office for Immigration Review in the Department of Justice, 8 CFR 1.1(l) (initial decisions in immigration cases).

In our view, the title Veterans Law Judge would convey a Board Member's function to veterans more accurately than the term “Member.” In addition, we believe that the title would enhance the confidence of veterans in the administrative appellate process by providing recognition that appeals in the VA system are adjudicated by legal professionals, as are benefit appeals in other administrative systems.

The letter from the six veterans service organizations asserted that VA could not accomplish through regulation what Congress chose not to do by statute. We are aware of no legal authority to support this view. The letter from the six veterans service organizations also opposed the proposed change by arguing that the title Veterans Law Judge “will intimidate veterans and could lead them to believe the agency is more concerned with formality rather than deciding claims in a non-adversarial setting.” The comments from the six veterans service organizations will be considered in connection with any other comments received in response to this proposed rule.

Paperwork Reduction Act

This document contains no provisions constituting a collection of information under the Paperwork Reduction Act (44 U.S.C. 3501-3520).

Executive Order 12866

This document has been reviewed by the Office of Management and Budget under Executive Order 12866.

Regulatory Flexibility Act

The Secretary hereby certifies that this proposed rule would not have a significant economic impact on a substantial number of small entities as they are defined in the Regulatory Flexibility Act, 5 U.S.C. 601-612. This proposed rule does not affect small businesses. Therefore, pursuant to 5 U.S.C. 605(b), this rule is exempt from the initial and final regulatory flexibility analyses requirements of sections 603 and 604.

List of Subjects in 38 CFR Part 19

Administrative practice and procedure, Claims, Veterans.

Dated: February 21, 2001.
Anthony J. Principi,
Secretary of Veterans Affairs.

For the reasons set out in the preamble, we propose to amend 38 CFR part 19 as set forth below:

PART 19—BOARD OF VETERANS' APPEALS: APPEALS REGULATIONS

1. The authority citation for part 19 continues to read as follows:

Authority: 38 U.S.C. 501(a), unless otherwise noted.

2. Section 19.2 is revised to read as follows:

§ 19.2 Composition of the Board; Titles.

(a) The Board consists of a Chairman, Vice Chairman, Deputy Vice Chairmen, Members and professional, administrative, clerical and stenographic personnel. Deputy Vice Chairmen are Members of the Board who are appointed to that office by the Secretary upon the recommendation of the Chairman.

(b) A Member of the Board (other than the Chairman) may also be known as a Veterans Law Judge. An individual designated as an acting Member pursuant to 38 U.S.C. 7101(c)(1) may also be known as an acting Veterans Law Judge.

(Authority: 38 U.S.C. 501(a), 512, 7101(a)).

[FR Doc. 01-5452 Filed 3-5-01; 8:45 am]

BILLING CODE 8320-01-P